INTERNATIONAL TRADE COMMISSION

[Investigation No. 332-566]

Trade Authorities Extension: Economic Impact of Trade Agreements Implemented Under the Bipartisan Trade Act of 2015

AGENCY: United States International Trade Commission.

ACTION: Institution of investigation and notice of opportunity to file written submissions.

SUMMARY: Having been notified by the U.S. Trade Representative that the President on March 20, 2018, submitted a report to Congress that contains a request for an extension of trade authorities procedures, the Commission, as required by section 103(c)(3)(B) of the Bipartisan Congressional Trade Priorities and Accountability Act of 2015 ¹ (Bipartisan Trade Act), has instituted an investigation for the purpose of preparing a report to Congress that contains a review and analysis of the economic impact on the United States of all trade agreements implemented between the date of the enactment of the Bipartisan Trade Act and March 20, 2018. The Commission is unaware of any trade agreements that were implemented under the Bipartisan Trade Act between the date of its enactment and March 20, 2018.

¹ 19 U.S.C. 4202(c)(3)(B).

DATES:

May 2, 2018: Deadline for filing written submissions.

June 1, 2018: Transmittal of Commission report to Congress.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commissions electronic docket (EDIS) at http://www.usitc.gov/secretary/edis.htm.

FOR FURTHER INFORMATION CONTACT: Information specific to this investigation may be obtained from Yasnanhia Cabral, Project Leader, Office of Operations (202-205-2230, or yasnanhia.cabral@usitc.gov). For information on the legal aspects of this investigation, contact William Gearhart of the Commission's Office of the General Counsel (202-205-3091 or william.gearhart@usitc.gov). The media should contact Peg O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2000.

SUPPLEMENTARY INFORMATION:

Background: As indicated above, the Commission is unaware of any trade agreements that were implemented under the Bipartisan Trade Act between the date of its enactment (June 29, 2015) and March 20, 2018, the date of the President's request to Congress to extend trade authorities procedures. While at least one trade agreement was negotiated during this period, the Trans-Pacific Partnership Agreement, it was not implemented during this period.

The Commission instituted this investigation under section 332 of the Tariff Act of 1930 (19 U.S.C. 1332) to facilitate public filing of comments and public review of such comments and to include the report in an existing series of Commission reports. The Commission will submit its report to Congress by June 1, 2018.

Written Submissions: The Commission does not plan to hold a public hearing in connection with this investigation. However, interested parties are invited to file written submissions concerning this investigation. All written submissions should be addressed to the Secretary, and should be received not later than 5:15 p.m., May 2, 2018. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary, Docket Services Division (202-205-1802).

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission will not include any confidential business information in the report that it sends to Congress or that it makes available to the public. However, all information, including confidential business information, submitted in this investigation may be disclosed to and used: (i) By the Commission, its employees and offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons. Persons wishing to have a summary of their position included in the report should include a summary with their written submission. The summary may not exceed 500 words, should be in MSWord format or a format that can be easily converted to MSWord, and should not include any confidential business information. The summary will be published as provided if it meets these requirements and is germane to the subject matter of the investigation. The Commission will identify the name of the organization furnishing the summary and will include a link to the Commission's Electronic Document Information System (EDIS) where the full written submission can be found.

By order of the Commission.
Issued: April 12, 2018.
Lisa Barton,
Secretary to the Commission.

[FR Doc. 2018-08069 Filed 4-17-18; 8:45 am]

BILLING CODE 7020-02-P